FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

Secure Freight Systems (U.S.A.), Inc., 27438 237th Pl., SE., Maple Valley, WA 98038. Officers: Becky Hibbert, Secretary (Qualifying Individual), Gordon Lam, President.

VGO International Freight, Inc., 2707 East Valley Blvd., Ste. 311, West Covina, CA 91792, Officers: Patrick Pak Fun Chui, Vice President (Qualifying Individual), Kit Y. Tsui, President.

Wheelsky Logistics, Inc., 14515 E. Don Julian Road, City of Industry, CA 91746, Officer: Heng (Alex) J. Huang, Vice President (Qualifying Individual).

Non-Vessel-Operating Common Carrier and Ocean Freight Forwarder Transportation Intermediary Applicants

Maze Express, LLC, 7031 Albatross Drive, Buena Park, CA 90620, Officer: Bang (Barry) Nguyen, Member/Manager (Qualifying Individual).

Aprile USA, Inc. dba Allied Seafreight Line, 1370 Broadway, Suite 1006, New York, NY 10018, Officer: Satish Arora, Asst. Secretary (Qualifying Individual).

Glodex, Corp., 7235 NW. 54th Street, Miami, FL 33166, Officer: Janete Rondon, President (Qualifying Individual).

Chaker Inc. dba Marina Line dba Folk Shipping Co., 2614 Treeview Drive, Arlington, TX 76016, Officers: Tarek Abdallah, President (Qualifying Individual), Ziad Abdallah, Vice President.

New K.S.A.I., Inc. dba KSA America Inc. dba KSA America Line, 3109 Lomita Blvd., Torrance, CA 90505, Officer: Daniel Benoit, Vice President (Qualifying Individual).

Ocean Freight Forwarder—Ocean Transportation Intermediary Application

Oceanland Service Inc., 8054 E. Garvey Ave., Ste. 200, Rosemead, CA 91770, Officer: Qiling Wu, President (Qualifying Individual).

Dated: October 23, 2009.
Karen V. Gregory,
Secretary.

[FR Doc. E9-25962 Filed 10-27-09; 8:45 am]

BILLING CODE 4730-01-P